DEPARTMENT OF LABOR

Employment and Training Administration

[TA-W-65,599]

Century Mold Co., Inc; Shelbyville, TN; Notice of Termination of Investigation

In accordance with Section 221 of the Trade Act of 1974, as amended, an investigation was initiated on March 16, 2009 in response to a petition filed by company officials on behalf of workers of Century Mold Co., Inc., Shelbyville, Tennessee.

The petitioners have requested that the petition be withdrawn. Consequently, the investigation has been terminated.

Signed in Washington, DC, this 1st day of April, 2009.
Richard Church,
Certifying Officer, Division of Trade Adjustment Assistance.

[FR Doc. E9-10386 Filed 5-5-09; 8:45 am]

BILLING CODE 4510-FN-P